DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Manufacturers' Shipments, Inventories, and Orders (M3) Supplement: 2006-2007 Unfilled Orders Benchmark Survey.

Form Number(s): MA-3000, MA-3000(I), MA-3000-L1, MA-3000-L2.

OMB Control Number: 0607-0561.

Type of Request: Reinstatement, with change, of an expired collection.

Burden Hours: 3,000.

Number of Respondents: 6,000.

Average Hours per Response: 30 minutes.

Needs and Uses: The Manufacturers' Shipments, Inventories, and Orders (M3) survey collects monthly data on shipments, inventories, new orders, and unfilled orders from manufacturing companies. The orders and shipments data are used widely and are valuable tools for analysts of business cycle conditions, including members of the Council of Economic Advisers, Bureau of Economic Analysis, Federal Reserve Board, Department of the Treasury, and the business community.

New orders serve as an indicator of future production commitments and the data are direct inputs into the leading economic indicator series. New orders, as reported in the monthly survey, are derived by adding shipments to the net change in the unfilled orders from the previous month. The ratio of unfilled orders to shipments is an important indicator of pressure on manufacturing capacity.

The monthly M3 estimates are based on a relatively small panel of domestic manufacturers and reflect primarily the month-to-month changes of large companies. There is a clear need for periodic benchmarking of the M3 estimates to reflect the entire manufacturing universe. The Annual Survey of Manufactures (ASM) provides annual benchmarks for the shipments and inventories, but there is no benchmark for unfilled orders. A benchmark survey for unfilled orders was last conducted for 1999.

The industries selected for this survey are those which the Census Bureau determined to maintain considerable unfilled orders. Due to the length of time since the last benchmark survey (8 years), an unfilled orders benchmark survey is necessary to ensure future accuracy of the new orders data and also to determine which NAICS industries continue to maintain unfilled orders.

Report forms will be mailed to approximately 6,000 companies requesting data for 47 of 89 NAICS defense and nondefense industry categories for the M3 survey.

The Census Bureau will use the information provided by this survey to develop universe estimates of unfilled orders as of the end of 2006 and 2007, and then adjust the monthly M3 data on unfilled orders to these levels. The benchmarked unfilled orders levels will be used to derive estimates of new orders received by manufacturers. New orders are derived using the following formula:

NEW ORDERS (current) = SHIPMENTS (current) + UNFILLED ORDERS (current) − UNFILLED ORDERS (prior)

Affected Public: Business or other for-profit organizations.

Frequency: One time.

Respondent's Obligation: Mandatory.

Legal Authority: Title 13, United States Code, sections 131, 182, 193, and 224.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer either by fax (202-395-7245) or e-mail (bharrisk@omb.eop.gov).

Dated: March 11, 2008.
Gwellnar Banks,
Management Analyst, Office of the Chief Information Officer.

[FR Doc. E8-5215 Filed 3-14-08; 8:45 am]

BILLING CODE 3510-07-P